DEPARTMENT OF DEFENSE

Department of the Army

[Docket ID: USA-2018-HQ-0022]

Proposed Collection; Comment Request

AGENCY: Department of the Army, DoD.

ACTION: Information collection notice.

SUMMARY: In compliance with the Paperwork Reduction Act of 1995, the U.S. Army Public Health Center announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 24, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Public Health Center (APHC), 8252 Blackhawk Road, ATTN: Joyce Woods, (MCHB-PH-PMD), Aberdeen Proving Ground, MD 21010-5403, or call the Department of the Army Reports Clearance Officer at (703) 428-6440.

SUPPLEMENTARY INFORMATION:

Title; Associated Form; and OMB Number: Application for Temporary Food Establishment, DD Form 2970; OMB Control Number 0702-0132.

Needs and Uses: The information collection requirement is necessary for the installation Preventive Medicine or Public Health Activity to evaluate a food vendor's ability to prepare and dispense safe food on the installation. The form, submitted one time, by a food vendor requesting to operate a food establishment on a military installation, characterizes the types of foods, daily volume of food, supporting food equipment, and sanitary controls. Approval to operate the food establishment is determined by the installation's medical authority; the Preventive Medicine or Public Health Activity conducts an operational assessment based on the food safety criteria prescribed in the Tri-Service Food Code (TB MED 530/NAVMED P-5010-1/AFMAN 48-147_IP). Food vendors who are deemed inadequately prepared to provide safe food service are disapproved for operating on the installation.

Affected Public: Business or other for profit; Not-for-profit institutions.

Annual Burden Hours: 22.75.

Number of Respondents: 91.

Responses per Respondent: 1.

Annual Responses: 91.

Average Burden per Response: 15 minutes.

Frequency: On occasion.

Respondents are food vendors requesting to operate a business on a military installation or solicited by an installation command or military unit through the Army and Air Force Exchange Service (AAFES), Navy Exchange (NEX), Marine Corps Exchange (MCX), Family Morale, Welfare and Recreation (FMWR), or other sponsoring entity to operate a food establishment on the military installation or Department of Defense site. If the form is not completed during the application process, the Preventive Medicine assessment can only be conducted once the operation is set up on the installation. A pre-operational inspection is conducted before the facility is authorized to initiate service to the installation. Critical food safety violation found during the pre-operational inspection results in disapproval for the facility to operate. All critical violations must be corrected in order to gain operational approval; the installation command incurs the risk of a foodborne illness outbreak if a non-compliant food establishment is authorized to operate. The vendor's application to operate is retained on file with Preventive Medicine and does not need to be resubmitted by vendors whose services are intermittent throughout the year unless the scope of the operation has changed.

Dated: October 19, 2018.
Aaron T. Siegel,
Alternate OSD Federal Register Liaison Officer, Department of Defense.

[FR Doc. 2018-23252 Filed 10-23-18; 8:45 am]

BILLING CODE 5001-06-P